DEPARTMENT OF COMMERCE

Bureau of Industry and Security

15 CFR Parts 732 and 734

[Docket No. 200312-0076]

RIN 0694-AF47

Control of Firearms, Guns, Ammunition and Related Articles the President Determines No Longer Warrant Control Under the United States Munitions List (USML); Notifying the Public of the Bureau's Interim Measures With Respect to March 6, 2020 Court Order

AGENCY: Bureau of Industry and Security, Department of Commerce.

ACTION: Notification of court order.

SUMMARY: The Bureau of Industry and Security (BIS) is publishing this notification to alert the public of the Bureau's interim measures with respect to a court order issued on March 6, 2020.

DATES: The court order was effective March 6, 2020.

FOR FURTHER INFORMATION CONTACT: Steven Clagett, Office of Nonproliferation Controls and Treaty Compliance, Nuclear and Missile Technology Controls Division, tel. (202) 482-1641 or email steven.clagett@bis.doc.gov.

SUPPLEMENTARY INFORMATION: On March 6, 2020, the Honorable Richard A. Jones, District Judge of the U.S. District Court for the Western District of Washington issued an order enjoining the U.S. Department of State from implementing or enforcing the regulation entitled International Traffic In Arms Regulations: U.S. Munitions List Categories I, II, and III, 85 FR 3819 (Jan. 23, 2020) “insofar as it alters the status quo restrictions on technical data and software directly related to the production of firearms or firearm parts using a 3D-printer or similar equipment.” (Case No. 2:20-cv-00111-RAJ).

As a result, any request for licenses of items that would otherwise fall under the U.S. Department of Commerce regulation, 15 CFR 732.2(b) and 734.7(c) (added by the final rule, entitled, Control of Firearms, Guns, Ammunition and Related Articles the President Determines No Longer Warrant Control Under the United States Munitions List (USML); 85 FR 4136, Jan. 23, 2020), should instead be directed to the U.S. Department of State.

BIS posted information on its website to alert the public of the Bureau's interim measures with respect to this court order. See https://www.bis.doc.gov/index.php/component/docman/?task=doc_download&gid=2535. For additional information about the court ordered injunction pertaining to revisions to the U.S. https://www.pmddtc.state.gov/ddtc_public?id=ddtc_public_portal_news_and_events&timeframe=week.

Dated: March 16, 2020.
Matthew S. Borman,
Deputy Assistant Secretary for Export Administration.

[FR Doc. 2020-05934 Filed 4-1-20; 8:45 am]

BILLING CODE 3510-33-P